NUCLEAR REGULATORY COMMISSION

[NRC-2018-0092]

Standard Format and Content of Physical Security Plans, Training and Qualifications Plans and Safeguards Contingency Plans for Nuclear Power Plants

AGENCY: Nuclear Regulatory Commission.

ACTION: Draft regulatory guide; request for comment.

SUMMARY: The U.S. Nuclear Regulatory Commission (NRC) is issuing for public comment a Draft Regulatory Guide (DG), entitled DG-5048, “Standard Format and Content of Physical Security Plans, Training and Qualifications Plans and Safeguards Contingency Plans for Nuclear Power Plants.” This draft revision of Regulatory Guide (RG) 5.54 (Revision 2) renames the guide and consolidates, enhances, and clarifies previous staff guidance for the development of licensee site-specific physical security plans found in NUREG-0908, “Acceptance Criteria for the Evaluation of Nuclear Power Reactor Security Plans,” training and qualification plans, and safeguards contingency plans. This revision to RG 5.54 includes editorial changes and clarifications provided by the staff in Security Frequently Asked Questions after the issuance of Revision 1.

DATES: Submit comments by July 13, 2018. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to http://www.regulations.gov and search for Docket ID NRC-2018-0092. Address questions about NRC dockets to Jennifer Borges; telephone: 301-287-9127; email: Jennifer.Borges@nrc.gov. For technical questions, contact the individuals listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Dennis Gordon, Office of Nuclear Security and Incident Response, telephone: 301-287-3633, email: Dennis.Gordon@nrc.gov and Mekonen Bayssie, Office of Nuclear Regulatory Research, telephone: 301-415-1699, email: Mekonen.Bayssie@nrc.gov. Both are staff of the U.S. Nuclear Regulatory Commission, Washington, DC 20555-0001.

SUPPLEMENTARY INFORMATION:

I. Obtaining Information and Submitting Comments

A. Obtaining Information

Please refer to Docket ID NRC-2018-0092 when contacting the NRC about the availability of information for this action. You may obtain publicly-available information related to this action by any of the following methods:

• Federal Rulemaking Website: Go to http://www.regulations.gov and search for Docket ID NRC-2018-0092.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. DG-5048 is available in ADAMS under Accession No. ML17124A490.

• NRC's PDR: You may examine and purchase copies of public documents at the NRC's PDR, Room O1-F21, One White Flint North, 11555 Rockville Pike, Rockville, Maryland 20852.

B. Submitting Comments

Please include Docket ID NRC-2018-0092 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The draft regulatory guide, entitled, “Standard Format and Content of Physical Security Plans, Training and Qualifications Plans and Safeguards Contingency Plans for Nuclear Power Plants,” is temporarily identified by its task number, DG-5048. DG-5048 is proposed Revision 2 of RG 5.54, “Standard Format and Content of Physical Security Plans, Training and Qualifications Plans and Safeguards Contingency Plans for Nuclear Power Plants” (ADAMS Accession No. ML17124A490). This revision of the guide (Revision 2) retitles the guide and consolidates, enhances, and clarifies previous staff guidance for the development of licensee site-specific physical security plans found in NUREG-0908, “Acceptance Criteria for the Evaluation of Nuclear Power Reactor Security Plans” (ADAMS Accession No. ML18128A239), training and qualification plans, and safeguards contingency plans. This revision to the regulatory guide includes clarifications provided by the staff in the Security Frequently Asked Questions after Revision 1 was published, and contains a wide variety of editorial changes to the overall Revision 1 content. In addition, this revision of the guide provides licensees with guidance for developing security plans and safeguards contingency plans for title 10 of the Code of Federal Regulations (10 CFR), part 72 licensees for independent spent fuel storage facilities.

I. Backfitting and Issue Finality

DG-5048 describes a method that the staff of the NRC considers acceptable for use by nuclear power plant licensees in meeting the requirements for the standard format and content for licensee physical security, training and qualification, and safeguards contingency plans and provides general guidance for the identification, description, and level of detail that licensees should provide, including site-specific conditions, in a comprehensive security plan. Issuance of this DG, if finalized, would not constitute backfitting as defined in 10 CFR 50.109 (the Backfit Rule) and would not otherwise be inconsistent with the issue finality provisions in 10 CFR part 52. As discussed in the “Implementation” section of this DG, the NRC has no current intention to impose this guide, if finalized, on holders of current operating licenses or combined licenses.

This DG, if finalized, may be applied to applications for operating licenses and combined licenses docketed by the NRC as of the date of issuance of the final regulatory guide, as well as future applications submitted after the issuance of the regulatory guide. Such action would not constitute backfitting as defined in the Backfit Rule or be otherwise inconsistent with the applicable issue finality provisions in 10 CFR part 52, inasmuch as such applicants or potential applicants are not within the scope of entities protected by the Backfit Rule or the relevant issue finality provisions in part 52.

Neither section 50.109 nor the issue finality provisions under 10 CFR part 52 were intended to apply to NRC actions that change the expectations of current and future applicants. However, the issue finality provisions of part 52 may apply when an applicant references a part 52 license or other NRC regulatory approval. Nevertheless, the scope of issue finality provided extends only to the matters resolved in the license or regulatory approval. Early site permits, design certification rules, and standard design approvals typically do not address or resolve compliance with operational programs such as the security requirements in 10 CFR part 73. Therefore, applicants referencing an early site permit, design certification rule, or standard design approval may be asked to follow the guidance in this draft regulatory guide, if finalized, or to provide an equivalent alternative process that demonstrates compliance with the underlying NRC regulatory requirements.

Dated at Rockville, Maryland, this 8th day of May, 2018.
For the Nuclear Regulatory Commission.
Thomas H. Boyce,
Chief, Regulatory Guidance and Generic Issues Branch, Division of Engineering, Office of Nuclear Regulatory Research.

[FR Doc. 2018-10156 Filed 5-11-18; 8:45 am]

BILLING CODE 7590-01-P